DEPARTMENT OF THE TREASURY

Fiscal Service

Surety Company Acceptable on Federal Bonds: Change in State of Incorporation: United States Fire Insurance Company

AGENCY: Financial Management Service, Fiscal Service, Department of the Treasury.

ACTION: Notice.

SUMMARY: This is Supplement No. 10 to the Treasury Department Circular 570; 2003 Revision, published July 1, 2003, at 68 FR 39186.

FOR FURTHER INFORMATION CONTACT: Surety Bond Branch at (202) 874-6850.

SUPPLEMENTARY INFORMATION: United States Fire Insurance Company has redomesticated from the state of New York to the state of Delaware effective December 31, 2003. The Company was last listed as an acceptable surety on Federal bonds at 68 FR 39223, July 1, 2003.

Federal bond-approving officers should annotate their reference copies of the Treasury Circular 570, 2003 revision, on page 39223 to reflect this change.

The Circular may be viewed and downloaded through the Internet at http://www.fms.treas.gov/c570. A hard copy may be purchased from the Government Printing Office (GPO) Subscription Service, Washington, DC, Telephone (202) 512-1800. When ordering the Circular from GPO, use the following stock number: 769-004-04067-1.

Questions concerning this Notice may be directed to the U.S. Department of the Treasury, Financial Management Service, Financial Accounting and Services Division, Surety Bond Branch, 3700 East-West Highway, Room 6F07, Hyattsville, MD 20782.

Dated: March 19, 2004.
Teresa Casswell,
Acting Director, Financial Accounting and Services Division, Financial Management Service.

[FR Doc. 04-6988 Filed 3-29-04; 8:45 am]

BILLING CODE 4810-35-M